NUCLEAR REGULATORY COMMISSION

[Docket No. 50-341; ASLBP No. 14-933-01-LR-BD01]

DTE Electric Company (Fermi Nuclear Power Plant, Unit 2); Notice of Atomic Safety and Licensing Board Reconstitution

Pursuant to 10 CFR 2.313(c) and 2.321(b), the Atomic Safety and Licensing Board (Board) in the above-captioned Fermi Nuclear Power Plant, Unit 2 license renewal proceeding is hereby reconstituted by appointing Administrative Judge Gary S. Arnold to serve on the Board in place of Administrative Judge Paul B. Abramson.

All correspondence, documents, and other materials shall continue to be filed in accordance with the NRC E-Filing rule. See 10 CFR. 2.302 et seq.

Issued at Rockville, Maryland this 29th day of September 2014.
E. Roy Hawkens,
Chief Administrative Judge, Atomic Safety and Licensing Board Panel.

[FR Doc. 2014-23667 Filed 10-2-14; 8:45 am]

BILLING CODE 7590-01-P